DEPARTMENT OF ENERGY

Federal Energy Regulatory Commission

Combined Notice of Filings

Take notice that the Commission has received the following Natural Gas Pipeline Rate and Refund Report filings:

Docket Number: PR20-55-000.

Applicants: The East Ohio Gas Company.

Description: Tariff filing per 284.123(b),(e)/: Operating Statement of The East Ohio Gas Company 4-30-2020 to be effective 4/1/2020.

Filed Date: 4/30/2020.

Accession Number: 202004305328.

Comments/Protests Due: 5 p.m. ET 5/21/2020.

Docket Numbers: RP20-773-001.

Applicants: Leaf River Energy Center LLC.

Description: Tariff Amendment: Leaf River Energy Amended Filing to be effective 5/6/2020.

Filed Date: 4/24/20.

Accession Number: 20200424-5094.

Comments Due: 5 p.m. ET 5/6/20.

Docket Numbers: RP18-1126-005.

Applicants: Transcontinental Gas Pipe Line Company, LLC.

Description: Compliance filing Supplement to RP18-1126 Stipulation and Agreement Tariff Record Filing to be effective 6/1/2020.

Filed Date: 4/30/20.

Accession Number: 20200430-5304.

Comments Due: 5 p.m. ET 5/12/20.

Docket Numbers: RP20-823-000.

Applicants: Algonquin Gas Transmission, LLC.

Description: § 4(d) Rate Filing: Negotiated Rates—Boston Gas 510798 Releases eff 5-1-2020 to be effective 5/1/2020.

Filed Date: 4/30/20.

Accession Number: 20200430-5002.

Comments Due: 5 p.m. ET 5/12/20.

Docket Numbers: RP20-824-000.

Applicants: Tallgrass Interstate Gas Transmission, LLC.

Description: § 4(d) Rate Filing: TIGT 2020-04-30 Negotiated Rate Agreement to be effective 5/1/2020.

Filed Date: 4/30/20.

Accession Number: 20200430-5003.

Comments Due: 5 p.m. ET 5/12/20.

Docket Numbers: RP20-825-000.

Applicants: Gulf South Pipeline Company, LLC.

Description: § 4(d) Rate Filing: Cap Rel Neg Rate Agmts (Atlanta Gas 8438 releases eff 5-1-2020) to be effective 5/1/2020.

Filed Date: 4/30/20.

Accession Number: 20200430-5018.

Comments Due: 5 p.m. ET 5/12/20.

Docket Numbers: RP20-826-000.

Applicants: Texas Eastern Transmission, LP.

Description: § 4(d) Rate Filing: Negotiated Rate—Eco-Energy 8963215 eff 5-1-20 to be effective 5/1/2020.

Filed Date: 4/30/20.

Accession Number: 20200430-5047.

Comments Due: 5 p.m. ET 5/12/20.

Docket Numbers: RP20-827-000.

Applicants: Texas Eastern Transmission, LP.

Description: § 4(d) Rate Filing: Negotiated Rates—EQT 8963370, 8963371 & Eco 8963607 eff 5-1-20 to be effective 5/1/2020.

Filed Date: 4/30/20.

Accession Number: 20200430-5057.

Comments Due: 5 p.m. ET 5/12/20.

Docket Numbers: RP20-831-000.

Applicants: Transcontinental Gas Pipe Line Company, LLC.

Description: § 4(d) Rate Filing: Negotiated Rates—Cherokee AGL—Replacement Shippers—May 2020 to be effective 5/1/2020.

Filed Date: 4/30/20.

Accession Number: 20200430-5092.

Comments Due: 5 p.m. ET 5/12/20.

Docket Numbers: RP20-832-000.

Applicants: Florida Southeast Connection, LLC.

Description: § 4(d) Rate Filing: Negotiated Rate Agreement Filing-FPUC 5001 to be effective 6/1/2020.

Filed Date: 4/30/20.

Accession Number: 20200430-5096.

Comments Due: 5 p.m. ET 5/12/20.

Docket Numbers: RP20-833-000.

Applicants: Rockies Express Pipeline LLC.

Description: § 4(d) Rate Filing: REX 2020-04-30 Non-Conforming Negotiated Rate Amendment to be effective 5/1/2020.

Filed Date: 4/30/20.

Accession Number: 20200430-5106.

Comments Due: 5 p.m. ET 5/12/20.

Docket Numbers: RP20-834-000.

Applicants: Northern Natural Gas Company.

Description: § 4(d) Rate Filing: 20200430 Negotiated Rate to be effective 5/1/2020.

Filed Date: 4/30/20.

Accession Number: 20200430-5110.

Comments Due: 5 p.m. ET 5/12/20.

Docket Numbers: RP20-835-000.

Applicants: NEXUS Gas Transmission, LLC.

Description: § 4(d) Rate Filing: Negotiated Rates—Columbia Gas 860005 5-1-2020 Releases to be effective 5/1/2020.

Filed Date: 4/30/20.

Accession Number: 20200430-5169.

Comments Due: 5 p.m. ET 5/12/20.

Docket Numbers: RP20-836-000.

Applicants: Texas Eastern Transmission, LP.

Description: § 4(d) Rate Filing: Negotiated Rate—NRG Power 910616 to be effective 5/1/2020.

Filed Date: 4/30/20.

Accession Number: 20200430-5170.

Comments Due: 5 p.m. ET 5/12/20.

Docket Numbers: RP20-837-000.

Applicants: ANR Pipeline Company.

Description: Compliance filing Cashout Surcharge 2020.

Filed Date: 4/30/20.

Accession Number: 20200430-5173.

Comments Due: 5 p.m. ET 5/12/20.

Docket Numbers: RP20-838-000.

Applicants: El Paso Natural Gas Company, L.L.C.

Description: § 4(d) Rate Filing: Negotiated Rate Agreement Update (APS May 2020) to be effective 5/1/2020.

Filed Date: 4/30/20.

Accession Number: 20200430-5186.

Comments Due: 5 p.m. ET 5/12/20.

Docket Numbers: RP20-839-000.

Applicants: Texas Eastern Transmission, LP.

Description: § 4(d) Rate Filing: TETLP Interim ASA Compliance Filing—RP19-343-006 to be effective 6/1/2020.

Filed Date: 4/30/20.

Accession Number: 20200430-5198.

Comments Due: 5 p.m. ET 5/12/20.

Docket Numbers: RP20-840-000.

Applicants: Rockies Express Pipeline LLC.

Description: § 4(d) Rate Filing: REX 2020-04-30 Negotiated Rate Agreements to be effective 5/1/2020.

Filed Date: 4/30/20.

Accession Number: 20200430-5283.

Comments Due: 5 p.m. ET 5/12/20.

Docket Numbers: RP20-841-000.

Applicants: Millennium Pipeline Company, LLC.

Description: § 4(d) Rate Filing: Negotiated & Non-Conforming Rate Amd—Combine Boston to be effective 6/1/2020.

Filed Date: 4/30/20.

Accession Number: 20200430-5313.

Comments Due: 5 p.m. ET 5/12/20.

Docket Numbers: RP20-845-000.

Applicants: Florida Southeast Connection, LLC.

Description: Annual System Balancing Adjustment Filing of Florida Southeast Connection, LLC under RP20-845.

Filed Date: 4/30/20.

Accession Number: 20200430-5454.

Comments Due: 5 p.m. ET 5/12/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2020.
Nathaniel J. Davis, Sr.,
Deputy Secretary.

[FR Doc. 2020-09767 Filed 5-6-20; 8:45 am]

BILLING CODE 6717-01-P